DEPARTMENT OF ENERGY

Federal Energy Regulatory Commission

[Docket No. RM06-12-000]

Regulations for Filing Applications for Permits To Site Interstate Electric Transmission Facilities; Notice of New Docket Prefixes “PT” and “ET” for Permits To Site Interstate Electric Transmission Facilities

April 3, 2008.

Notice is hereby given that new docket prefixes “PT” and “ET” have been established for the pre-filing and application processes for permits to site interstate electric transmission facilities in accordance with Order No. 689,¹ issued November 16, 2006.

¹ Regulations for Filing Applications for Permits to Site Interstate Electric Transmission Facilities, Order No. 689, 71 FR 69440 (November 16, 2006), FERC Stats. & Regs. 31,234 (2006).

Order No. 689 requires potential applicants to complete a pre-filing process prior to filing an application for an electric transmission construction permit. The pre-filing request will be assigned a “PT” docket number prefix, and all related filings should be submitted under that docket. Applications for a permit to site facilities will be assigned an “ET” docket ² and all related filings should refer to that docket number.

² Application filings under a new ET docket should reference the applicable pre-filing PT docket number.

Pre-filing requests, applications, and all related filings may be submitted using the Commission's electronic filing system (http://www.ferc.gov/docs-filing/efiling.asp). Guidelines for the appropriate efiling menu choices and the required number of staff copies are listed in the Filing Guide and Qualified Documents List on the efiling Web page under the entries for 18 CFR Part 50 of the Commission's regulations.

Comments submitted in both PT and ET docket number prefixes will be eligible to be electronically submitted using the Commission's Quick Comment option. Quick Comment is an easier alternative to the efiling system for submitting text comments and does not require advance eRegistration. Commenters may also use the efiling system to submit more extensive comments and/or exhibits, provided they have an eRegistration account.

If you need assistance with efiling, please contact FERC Online Support at 1-866-208-3676 or FERCOnlineSupport@ferc.gov.

Kimberly D. Bose,
Secretary.

[FR Doc. E8-7606 Filed 4-9-08; 8:45 am]

BILLING CODE 6717-01-P